DEPARTMENT OF HEALTH AND HUMAN SERVICES

National Institutes of Health

National Institute on Deafness and Other Communication Disorders Draft 2017-2021 Strategic Plan

AGENCY: National Institutes of Health.

ACTION: Request for comment.

SUMMARY: The National Institute on Deafness and Other Communication Disorders (NIDCD), National Institutes of Health (NIH) is requesting public comment on the draft 2017-2021 NIDCD Strategic Plan. The Strategic Plan serves as a guide to the NIDCD in prioritizing its research investment, illustrates the current state-of-the-science, and highlights recent advances in the communication sciences. The draft Plan presents a series of goals and objectives that represent the most promising research needs within the NIDCD's mission areas.

DATES: Comments will be accepted through September 30, 2016.

ADDRESSES: The draft Plan is available for download at: https://www.nidcd.nih.gov/about/strategic-plan/2017-2021/public-comment. Comments must be submitted electronically via the web-based form at: https://www.nidcd.nih.gov/about/strategic-plan/2017-2021/public-comment. The web-based form accepts text but cannot accept attachments. You will receive an electronic confirmation acknowledging receipt of your response, but will not receive individualized feedback from NIDCD on any comments.

FOR FURTHER INFORMATION CONTACT: Specific questions regarding the NIDCD draft Strategic Plan should be directed to: NIDCDStrategicPlan@mail.nih.gov.

SUPPLEMENTARY INFORMATION: The NIDCD mission is to conduct and support biomedical research, behavioral research, and research training in the normal and disordered processes of hearing, balance, taste, smell, voice, speech, and language. The institute also conducts and supports research and research training related to disease prevention and health promotion; addresses special biomedical and behavioral problems associated with people who have communication impairments or disorders; and supports efforts to create devices that substitute for lost and impaired sensory and communication function. To accomplish these goals, the NIDCD manages a broad portfolio of both basic and clinical research. The portfolio is organized into three program areas: Hearing and balance; taste and smell; and voice, speech, and language. The three program areas seek to answer fundamental scientific questions about normal function and disorders and to identify patient-oriented scientific discoveries for preventing, screening, diagnosing, and treating disorders of human communication.

The draft 2017-2021 NIDCD Strategic Plan has been developed over the past 12 months by NIDCD staff in consultation with scientific experts and the National Deafness and Other Communication Disorders Advisory Council. (Details of the development process are included in Appendix B of the draft Plan.) The goals listed in the draft Plan are an assessment of research areas that present the greatest scientific opportunities and public health needs over the next five years for the three program areas: Hearing and balance; taste and smell; and voice, speech and language.

The NIDCD has identified four Priority Areas that have the potential to increase our understanding of the normal and disordered processes of hearing, balance, taste, smell, voice, speech, and language and to further our knowledge in human communication sciences. They are:

• Priority Area 1—Understanding Normal Function: Deepen our understanding of the mechanisms underlying normal function of the systems of human communication. By defining what is normal in both animal models and humans, we can better understand mechanisms of disease.

• Priority Area 2—Understanding Diseases and Disorders: Increase our knowledge of the mechanisms of diseases, disorders, and dysfunctions that impair human communication and health. Understanding mechanisms that underlie diseases and disorders is an important step in developing better prevention and treatment strategies.

• Priority Area 3—Improving Diagnosis, Treatment, and Prevention: Develop, test, and improve diagnosis, treatment, and prevention of diseases, disorders, and dysfunctions of human communication and health. Diagnosis considers normal function and provides targets for prevention and treatment. Improvements in prevention and treatment lead to better outcomes with fewer side effects.

• Priority Area 4—Improving Outcomes for Human Communication: Accelerate the translation of research discoveries into practice; increase access to health care; and enhance the delivery, quality, and effectiveness of care to improve personal and public health. Scientifically-validated prevention and treatment models will lead to better personal and public health only if they are translated effectively into routine practice.

The goals presented in the Plan are a guide for:

• Scientists: To better understand the directions that NIDCD research may take in the future;

• The NIDCD: To assist in developing funding opportunity announcements and to identify projects for high program priority nomination; and

• The Public: To understand the state of communication sciences and to discover the scientific breakthroughs that are possible with sustained investments in biomedical research.

Responses to this request for comments are voluntary. Any personal identifiers (e.g., names, addresses, email addresses, etc.) will be removed when responses are compiled. Only the de-identified comments will be made publicly available. Proprietary, classified, confidential, or sensitive information should not be included in your response. The Government reserves the right to use any non-proprietary technical information in any resultant solicitation(s).

This request for comment is for information and planning purposes only and should not be construed as a solicitation or as an obligation on the part of the Federal Government, or the NIH. The NIH does not intend to award a grant or contract to pay for the preparation of any information submitted or for the NIH's use of such information. No basis for claims against the NIH shall arise as a result of a response to this request for information or the NIH's use of such information as part of the NIDCD Strategic Plan.

The NIDCD anticipates that the finalized plan will be published on the NIDCD Web site in January 2017.

Dated: August 24, 2016.
James F. Battey, Jr.,
Director, NIDCD, National Institutes of Health.

[FR Doc. 2016-20905 Filed 8-31-16; 8:45 am]

BILLING CODE 4140-01-P